DEPARTMENT OF THE TREASURY

Privacy Act; Systems of Records Terminations

AGENCY: Department Offices, Treasury.

ACTION: Notification of Termination of a System of Records.

SUMMARY: The Departmental Offices, Treasury is terminating a system of records, Treasury\Departmental Offices—DO.318 Consumer Financial Protection Bureau (CFPB) Implementation Team Correspondence Tracking Database (June 15, 2011 at 76 FR 35071), that is no longer identified as an independent system of record because Treasury no longer holds the records and it is covered under CFPB .011 Correspondence Tracking Database (December 17, 2013 at 78 FR 76286), (https://www.federalregister.gov/articles/2013/12/17/2013-29969/privacy-act-of-1974-as-amended).

DATES: October 22, 2014.

FOR FURTHER INFORMATION CONTACT: Helen Goff Foster, (202) 622-5710, or email to Helen.Foster@treasury.gov.

SUPPLEMENTARY INFORMATION: None.

Accordingly, this notice formally terminates this system of records.

U.S. Department of the Treasury

__

Dated: December 8, 2014.
Helen Goff Foster,
Deputy Assistant Secretary for Privacy, Transparency, and Records.

[FR Doc. 2014-29120 Filed 12-10-14; 8:45 am]

BILLING CODE 4810-25-P